DEPARTMENT OF TRANSPORTATION

Federal Aviation Administration

14 CFR Part 95

[Docket No. 31651; Amdt. No. 590]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, March 19, 2026.

FOR FURTHER INFORMATION CONTACT: Rune Duke, Manager (Acting), Standards Section, Flight Procedures and Airspace Group, Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on February 13, 2026.
Rune Duke,
Manager (Acting), Standards Section, Flight Procedures and Airspace Group, Flight Technologies and Procedures Division, Office of Safety Standards, Flight Standards Service, Aviation Safety, Federal Aviation Administration.

Adoption of the Amendment

Accordingly, pursuant to the authority delegated to me by the Administrator, part 95 of the Federal Aviation Regulations (14 CFR part 95) is amended as follows effective at 0901 UTC, 19 Mar 2026.

PART 95—IFR ALTITUDES

1. The authority citation for part 95 continues to read as follows:

Authority: 49 U.S.C. 106(g), 40103, 40113 and 14 CFR 11.49(b)(2).

2. Part 95 is amended to read as follows:

From | To | MEA | MAA
§ 95.3000 Low Altitude RNAV Routes
§ 95.3497 RNAV Route T497 Is Added To Read
ELIZABETH CITY, NC VOR/DME | OCEANA, VA TACAN | 2100 | 17500
OCEANA, VA TACAN | FAAFO, VA WP | 1800 | 17500
FAAFO, VA WP | BAYSO, VA WP | * 1800 | 17500
* 1300—MOCA
BAYSO, VA WP | LNSKY, VA FIX | 1800 | 17500
LNSKY, VA FIX | OUTLA, VA WP | 1800 | 17500
OUTLA, VA WP | FAGED, VA WP | 1800 | 17500
§ 95.4000 High Altitude RNAV Routes
§ 95.4186 RNAV Route Q186 Is Added To Read
ZIINE, MI WP | IDEAS, MI FIX | * 18000 | 45000
* 18000—GNSS MEA
* DME/DME/IRU MEA
IDEAS, MI FIX | U.S. CANADIAN BORDER | * 18000 | 45000
* 18000—GNSS MEA
* DME/DME/IRU MEA
U.S. CANADIAN BORDER | SPYDY, OH WP | * 18000 | 45000
* 18000—GNSS MEA
* DME/DME/IRU MEA
SPYDY, OH WP | TEESY, PA WP | * 18000 | 45000
* 18000—GNSS MEA
* DME/DME/IRU MEA
TEESY, PA WP | MIGET, PA FIX | * 18000 | 45000
* 18000—GNSS MEA
* DME/DME/IRU MEA
MIGET, PA FIX | SCAAM, PA WP | * 18000 | 45000
* 18000—GNSS MEA
* DME/DME/IRU MEA
§ 95.4190 RNAV Route Q190 Is Added To Read
CARLETON, MI VOR/DME | U.S. CANADIAN BORDER | * 18000 | 45000
* 18000—GNSS MEA
* DME/DME/IRU MEA
U.S. CANADIAN BORDER | WIGGZ, PA WP | * 18000 | 45000
* 18000—GNSS MEA
* DME/DME/IRU MEA
RAHKS, NY WP |  | * 18000 | 45000
* 18000—GNSS MEA
* DME/DME/IRU MEA
RAHKS, NY WP | PONCT, NY WP | * 18000 | 45000
* 18000—GNSS MEA
* DME/DME/IRU MEA

From | To | MEA
§ 95.6001 Victor Routes—U.S.
§ 95.6001 VOR Federal Airway V1 Is Amended To Delete
KINSTON, NC VORTAC | ZAGGY, NC FIX | UNUSABLE
ZAGGY, NC FIX | COFIELD, NC VORTAC | * 3000
* 1500—MOCA |  | MAA—17500
COFIELD, NC VORTAC | DRONE, NC FIX | 2000 MAA—17500
DRONE, NC FIX | NORFOLK, VA VORTAC | * 2500
* 1600—MOCA |  | MAA—17500
§ 95.6063 VOR Federal Airway V63 Is Amended To Read in Part
RHINELANDER, WI VOR/DME | CUSAS, WI FIX
| NE BND | 5000
| SW BND | 3600 MAA—17500
CUSAS, WI FIX | HOUGHTON, MI VOR/DME | * 5000
* 3100—MOCA |  | MAA—17500
* 3600—GNSS MEA
§ 95.6068 VOR Federal Airway V68 Is Amended To Read in Part
JOKES, TX FIX | STEEP, TX FIX | * 5000
* 4400—MOCA |  | MAA—17500
§ 95.6070 VOR Federal Airway V70 Is Amended To Delete
KINSTON, NC VORTAC | PEARS, NC FIX | UNUSABLE
PEARS, NC FIX | COFIELD, NC VORTAC | * 3000
* 2000—MOCA |  | MAA—17500
§ 95.6071 VOR Federal Airway V71 Is Amended To Read in Part
SPARO, AR FIX | HOT SPRINGS, AR VOR/DME | 5000 MAA—17500
PIERRE, SD VORTAC | LINTN, ND FIX | * 6000
* 3500—MOCA |  | MAA—17500
LINTN, ND FIX | BISMARCK, ND VOR/DME
| S BND | 6000
| N BND | 3600 MAA—17500
§ 95.6094 VOR Federal Airway V94 Is Amended To Read in Part
GREGG COUNTY, TX VORTAC | ELM GROVE, LA VORTAC | 2100 MAA—17500
§ 95.6120 VOR Federal Airway V120 Is Amended To Read in Part
SIOUX FALLS, SD VORTAC | BILOO, IA FIX | * 6600
* 4500—MOCA |  | MAA—17500
BILOO, IA FIX | * GRUVE, IA FIX | ** 6800
* 8000—MRA
** 3300—MOCA |  | MAA—17500
§ 95.6133 VOR Federal Airway V133 Is Amended To Read in Part
STOVE, VA FIX | CHARLESTON, WV VOR/DME | * 13000
* 7000—MOCA |  | MAA—17500
* 7000—GNSS MEA
§ 95.6166 VOR Federal Airway V166 Is Amended To Read in Part
PARKERSBURG, WV VOR/DME | MOSIC, WV FIX
| W BND | 3000
| E BND | 3600 MAA—17500
§ 95.6178 VOR Federal Airway V178 Is Amended To Read in Part
BNTON, MO FIX | VICHY, MO VOR/DME | 2800 MAA—17500
§ 95.6194 VOR Federal Airway V194 Is Amended To Delete
TAR RIVER, NC VORTAC | COFIELD, NC VORTAC | 1800 MAA—17500
COFIELD, NC VORTAC | SUNNS, NC FIX | * 2000 MAA—17500
§ 95.6195 VOR Federal Airway V195 Is Amended To Read in Part
RAGGS, CA FIX | * BESSA, CA FIX | ** 8500
* 8500—MCA BESSA, CA FIX, S BND
** 5000—MOCA |  | MAA—17500
*** MEA IS ESTABLISHED WITH A GAP IN NAVIGATION SIGNAL COVERAGE
BESSA, CA FIX | WILLIAMS, CA VORTAC
| S BND | * 8500
| N BND | * 5300
* 5300—MOCA |  | MAA—17500
§ 95.6208 VOR Federal Airway V208 Is Amended To Read in Part
GRAND CANYON, AZ VOR/DME | AWIZO, AZ FIX | 9800 MAA—17500
AWIZO, AZ FIX | TUBA CITY, AZ VORTAC | 9500 MAA—17500
§ 95.6218 VOR Federal Airway V218 Is Amended To Read in Part
SQEAK, MN FIX | * GRAND RAPIDS, MN VOR/DME
| N BND | ** 10000
| S BND | ** 9000
* 9000—MCA GRAND RAPIDS, MN VOR/DME, S BND
** 3100—MOCA |  | MAA—17500
GRAND RAPIDS, MN VOR/DME | NEBBS, MN FIX
| N BND | * 10000
| S BND | * 9000
* 3100—MOCA |  | MAA—17500
NEBBS, MN FIX | GOPHER, MN VORTAC | * 10000
* 3100—MOCA |  | MAA—17500
§ 95.6386 VOR Federal Airway V386 Is Amended To Read in Part
FILLMORE, CA VORTAC | * SAUGS, CA FIX | 6000
* 6400—MCA SAUGS, CA FIX, NE BND
|  | MAA—17500
SAUGS, CA FIX | PALMDALE, CA VORTAC | 7500 MAA—17500
PALMDALE, CA VORTAC | * APLES, CA FIX | 7000
* 7300—MCA APLES, CA FIX, E BND
|  | MAA—17500
APLES, CA FIX | SOGGI, CA FIX | * 11000
* 8400—MOCA |  | MAA—17500
§ 95.6580 VOR Federal Airway V580 Is Amended To Read in Part
LEBOY, IL FIX | SEXTN, IL FIX | * 4500
* 2100—MOCA |  | MAA—17500
SEXTN, IL FIX | BURLINGTON, IA VOR/DME | * 4500
* 2300—MOCA |  | MAA—17500

From | To | MEA | MAA
§ 95.7001 Jet Routes
§ 95.7015 Jet Route J15 Is Amended To Read in Part
WINK, TX VORTAC | CHISUM, NM VORTAC | * 18000 | 45000
* WINK R-311 UNUSABLE, USE CHISUM R-129
§ 95.7050 Jet Route J50 Is Amended To Read in Part
EL PASO, TX VORTAC | LINZY, TX FIX | 18000 | 45000
LINZY, TX FIX | WINK, TX VORTAC | UNUSABLE
§ 95.7146 Jet Route J146 Is Amended To Delete
GIPPER, MI VORTAC | CHARDON, OH VOR/DME | 18000 | 45000
CHARDON, OH VOR/DME | KEATING, PA VORTAC | 18000 | 45000
§ 95.7501 Jet Route J501 Is Amended To Read in Part
SAN MARCUS, CA VORTAC | BIG SUR, CA VORTAC | 18000 | 45000

Airway segment: From | Airway segment: To | Changeover points: Distance | Changeover points: From
§ 95.8003 VOR Federal Airway Changeover Point
V133 Is Amended To Modify Changeover Point
BARRETTS MOUNTAIN, NC VOR/DME | CHARLESTON, WV VOR/DME | 89 | BARRETTS MOUNTAIN.
V78 Is Amended To Add Changeover Point
EAU CLAIRE, WI VORTAC | RHINELANDER, WI VOR/DME | 56 | EAU CLAIRE.
§ 95.8005 Jet Routes Changeover Points
J50 Is Amended To Add Changeover Point
ABILENE, TX VORTAC | WACO, TX VORTAC | 90 | ABILENE.
J64 Is Amended To Add Changeover Point
PEACH SPRINGS, AZ VOR/DME | TUBA CITY, AZ VORTAC | 75 | PEACH SPRINGS.
J102 Is Amended To Add Changeover Point
GALLUP, NM VORTAC | ALAMOSA, CO VORTAC | 130 | GALLUP
J128 Is Amended To Add Changeover Point
PEACH SPRINGS, AZ VOR/DME | TUBA CITY, AZ VORTAC | 75 | PEACH SPRINGS.
J501 Is Amended To Add Changeover Point
SAN MARCUS, CA VORTAC | BIG SUR, CA VORTAC | 78 | SAN MARCUS.

[FR Doc. 2026-03150 Filed 2-17-26; 8:45 am]

BILLING CODE 4910-13-P